DEPARTMENT OF TRANSPORTATION

Federal Aviation Administration

14 CFR Part 71

[Docket No. FAA-2022-0932; Airspace Docket No. 21-AEA-22]

RIN 2120-AA66

Proposed Amendment and Establishment of Area Navigation (RNAV) Routes; Eastern United States

AGENCY: Federal Aviation Administration (FAA), DOT.

ACTION: Notice of proposed rulemaking (NPRM).

SUMMARY: This action proposes to amend five area navigation (RNAV) routes (T-224, T-314, T-315, T-325, and Q-68), and establish two RNAV routes (T-303, and T-360). These routes would support the FAA VOR Minimum Operational Network (MON) program, and would expand the availability of RNAV routing in the National Airspace System (NAS).

DATES: Comments must be received on or before September 29, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-0932; Airspace Docket No. 21-AEA-22 at the beginning of your comments. You may also submit comments through the internet at www.regulations.gov. FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2022-0932; Airspace Docket No. 21-AEA-22 and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-0932; Airspace Docket No. 21-AEA-22.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at www.regulations.gov. Recently published rulemaking documents can also be accessed through the FAA's web page at www.faa.gov/air_traffic/publications/airspace_amendments/. You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document amends FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic service routes, and reporting points.

The Proposal

The FAA is proposing an amendment to Title 14 CFR part 71 to amend five area navigation (RNAV) routes (T-224, T-314, T-315, T-325, and Q-68), and establish two RNAV routes (T-303, and T-360).

T-224: Effective July 14, 2022, FAA amended T-224 to extend from the Palacios, TX (PSX), VHF Omnidirectional Range and Tactical Air Navigational System (VORTAC) to the COLIN, VA, Fix (87 FR 29222; May 13, 2022). This notice proposes to further extend T-224 from the COLIN, VA, Fix to the Boston, MA (BOS), VHF Omnidirectional Range/Distance Measuring Equipment (VOR/DME). The points from the Palacios VORTAC to the COLIN Fix would remain unchanged. After the COLIN Fix, the following points would be added to the route: SHLBK, MD, waypoint (WP); PRNCZ, MD, WP; Smyrna, DE (ENO), VORTAC; JIIMS, NJ, WP; Coyle, NJ (CYN), VORTAC; DIXIE, NJ, Fix; Kennedy, NY (JFK), VOR/DME; KEEPM, NY, Fix; Calverton, NY (CCC), VOR/DME; YANCT, CT, WP; and Boston, MA (BOS), VOR/DME. In this description, the JIIMS WP is being used in place of the Cedar Lake, NJ (VCN), VOR/DME, and the YANCT, CT, WP is being used in place of the Norwich, CT (ORW), VOR/DME. T-224 would overlay portions of VOR Federal airway V-16 from the COLIN Fix to the Boston VOR/DME.

T-303: T-303 is a proposed new route that would extend from the IRAKE, NC, WP, to the Boston, MA (BOS), VOR/DME. It would overlay airway V-1 from the Cofield, NC (CVI), VORTAC to the Boston, MA (BOS), VOR/DME. In the T-303 description, the KOHLS, NC, WP would be used in place of the Cofield VORTAC. The OUTLA, VA, WP would be used in place of the Cape Charles, VA (CCV), VORTAC. The TRPOD, MD, WP would be used in place of the Salisbury, MD (SBY), VORTAC.

T-314: T-314 extends from the Barnes, MA (BAF), VORTAC to the Kennebunk, ME (ENE), VOR/DME. The FAA proposes to extend T-314 to overlay airway V-93 from the Kingston, NY (IGN), VOR/DME to the SASHA, MA, Fix; then overlay airway V-292 from the SASHA Fix to the Barnes VORTAC. The PAWLN, NY, WP would be used in place of the Pawling, NY (PWL), VOR/DME. In addition, the following Fixes would be removed from the route description because they don't mark a turn point: PUDGY, MA; LAPEL, MA; JOHNZ, NH; RAYMY, NH; KHRIS, NH; and YUKES, ME. However, the points will remain part of the route structure and will continue to be depicted on the IFR En Route chart. As amended, T-314 would extend from the Kingston, NY (IGN), VOR/DME to the Kennebunk, ME (ENE), VOR/DME.

T-315: T-315 extends from the Hartford, CT (HFD), VOR/DME to the Burlington, VT (BVT), WOR/DME. This action proposes to extend T-315 south and west from Hartford, CT to the vicinity of Charleston, WV. The JARLO, WV, WP would be used in place of the Charleston, WV (HVQ), VOR/DME. T-315 would overlay airway V-260 from JARLO to Flat Rock, VA; V-16 from Flat Rock to the DIXIE, NJ, Fix; and V-229 from the DIXIE Fix to Hartford, CT. The SHANE, WV, WP would be used in place of the Rainelle, WV (RNL), VOR. The DBRAH, VA, WP would replace the Roanoke, VA (ROA), VOR/DME. The EEGOR, CT, WP would replace the Bridgeport, CT (BDR), VOR/DME. The following WPs would be removed from the description because they don't mark a turn point: DARTH, CT; WITNY, MA; SPENO, MA; JAMMA, VT; and MUDDI, VT. However, the points will remain part of the route structure and will continue to be depicted on the IFR En Route chart. As amended, T-315 would extend from the JARLO, WV, WP to the Burlington, VT (BTV), VOR/DME.

T-325: T-325 extends from the Bowling Green, KY (BWG), DME to the Oshkosh, WI (OSH), VORTAC. Due to the scheduled decommissioning of the Bowling Green, KY (BWG), DME this proposal would amend the route by replacing the Bowling Green DME with the RAMRD, KY, WP. In addition, the following points would be removed from the route description because they don't mark a turn point: LOONE, KY, WP; BUNKA, IN, Fix; and CAPPY, IL, WP. However, the points will remain part of the route structure and will continue to be depicted on the IFR En Route chart. As amended, T-325 would extend from the RAMRD, KY, WP to the Oshkosh, WI (OSH), VORTAC.

T-360: T-360 is a proposed new route that would extend from the SHANE, WV, WP to the WAVES, VA, WP. T-360 would overlay airway V-290 from the Rainelle, WV (RNL), VOR to the ARVON, VA, Fix (located 22 nautical miles southwest of the Gordonsville, VA (GVE), VORTAC). The SHANE WP would replace the Rainelle VOR.

Q-68: Q-68 is a high-altitude RNAV route that extends from the LITTR, AR, WP to the OTTTO, VA, WP. The FAA proposes to amend Q-68 by removing the Bowling Green, KY (BWG), DME from the route and replace it with the RAMRD, KY, WP. The following points would be removed from the description because they don't mark a turn point: SOPIE, TN, Fix; YOCKY, KY, Fix; SPAYD, WV, Fix; and HHOLZ, WV, Fix. However, the points will remain part of the route structure and will continue to be depicted on the IFR En Route chart. The full descriptions of the above routes are listed in the proposed amendments to part 71 set forth below.

These changes would provide RNAV routing to supplement VOR Federal airways that will be impacted by the VOR MON program, and support the transition to a more efficient Performance Based Navigation route structure.

Low altitude United States Area Navigation routes are published in paragraph 6011, and high altitude United States Area Navigation Routes are published in paragraph 2006, respectively, of FAA Order 7400.11F, dated August 10, 2021, and effective September 15, 2021, which is incorporated by reference in 14 CFR 71.1. The RNAV routes listed in this document would be subsequently published in FAA Order JO 7400.11.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021 and effective September 15, 2021, is amended as follows:

Paragraph 6011 United States Area Navigation Routes.

* * * * *

T-224 Palacios, TX (PSX) to Boston, MA (BOS) [Amended]
Palacios, TX (PSX) | VORTAC | (Lat. 28°45′51.93″ N, long. 096°18′22.25″ W)
MOLLR, TX | WP | (Lat. 29°39′20.23″ N, long. 095°16′35.83″ W)
SHWNN, TX | WP | (Lat. 29°56′45.94″ N, long. 094°00′57.73″ W)
WASPY, LA | FIX | (Lat. 30°01′33.88″ N, long. 093°38′50.45″ W)
KNZLY, LA | WP | (Lat. 30°08′29.48″ N, long. 093°06′19.37″ W)
DAFLY, LA | WP | (Lat. 30°11′37.70″ N, long. 091°59′33.94″ W)
KJAAY, LA | WP | (Lat. 30°05′15.06″ N, long. 090°35′19.73″ W)
SLIDD, LA | FIX | (Lat. 30°09′46.08″ N, long. 089°44′02.18″ W)
WTERS, MS | WP | (Lat. 30°24′24.36″ N, long. 089°04′37.04″ W)
LYNRD, AL | WP | (Lat. 30°43′33.26″ N, long. 088°21′34.07″ W)
AXEJA, AL | FIX | (Lat. 31°02′32.36″ N, long. 087°57′01.58″ W)
WIILL, AL | WP | (Lat. 31°27′33.96″ N, long. 087°21′08.62″ W)
MGMRY, AL | WP | (Lat. 32°13′20.78″ N, long. 086°19′11.24″ W)
GONDR, AL | WP | (Lat. 32°22′01.98″ N, long. 085°45′57.08″ W)
RSVLT, GA | WP | (Lat. 32°36′55.43″ N, long. 085°01′03.81″ W)
SINCA, GA | FIX | (Lat. 33°04′52.28″ N, long. 083°36′17.52″ W)
UGAAA, GA | WP | (Lat. 33°56′51.32″ N, long. 083°19′28.42″ W)
ECITY, SC | WP | (Lat. 34°25′09.62″ N, long. 082°47′04.58″ W)
STYLZ, NC | WP | (Lat. 35°24′22.83″ N, long. 082°16′07.01″ W)
BONZE, NC | WP | (Lat. 35°52′09.16″ N, long. 081°14′24.10″ W)
MCDON, VA | WP | (Lat. 36°40′29.56″ N, long. 079°00′52.03″ W)
NUTTS, VA | FIX | (Lat. 37°04′34.16″ N, long. 078°12′13.69″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
PRNCZ, MD | WP | (Lat. 38°37′38.10″ N, long. 076°05′08.20″ W)
Smyrna, DE (ENO) | VORTAC | (Lat. 39°13′53.93″ N, long. 075°30′57.49″ W)
JIIMS, NJ | WP | (Lat. 39°32′15.62″ N, long. 074°58′01.72″ W)
Coyle, NJ (CYN) | VORTAC | (Lat. 39°49′02.42″ N, long. 074°25′53.85″ W)
DIXIE, NJ | FIX | (Lat. 40°05′57.72″ N, long. 074°09′52.17″ W)
Kennedy, NY (JFK) | VOR/DME | (Lat. 40°37′58.40″ N, long. 073°46′17.00″ W)
KEEPM, NY | FIX | (Lat. 40°50′14.77″ N, long. 073°32′42.58″ W)
Calverton, NY (CCC) | VOR/DME | (Lat. 40°55′46.63″ N, long. 072°47′55.89″ W)
YANTC, CT | WP | (Lat. 41°33′22.81″ N, long. 071°59′56.95″ W)
Boston, MA (BOS) | VOR/DME | (Lat. 42°21′26.82″ N, long. 070°59′22.37″ W)
* * * * * * *
T-303 IRAKE, NC to Boston, MA (BOS) [New]
IRAKE, NC | WP | (Lat. 35°41′31.44″ N, long. 077°20′25.44″ W)
KOHLS, NC | WP | (Lat. 36°22′17.76″ N, long. 076°52′21.48″ W)
Norfolk, VA (ORF) | VORTAC | (Lat. 36°53′30.86″ N, long. 076°12′01.18″ W)
OUTLA, VA | WP | (Lat. 37°20′45.48″ N, long. 075°59′54.08″ W)
JAMIE, VA | FIX | (Lat. 37°36′20.58″ N, long. 075°57′48.81″ W)
Waterloo, DE (ATR) | VOR/DME | (Lat. 38°48′35.32″ N, long. 075°12′40.76″ W)
LEEAH, NJ | FIX | (Lat. 39°15′39.27″ N, long. 074°57′11.01″ W)
DIXIE, NJ | FIX | (Lat. 40°05′57.72″ N, long. 074°09′52.17″ W)
Kennedy, NY (JFK) | VOR/DME | (Lat. 40°37′58.40″ N, long. 073°46′17.00″ W)
Deer Park, NY (DPK) | VOR/DME | (Lat. 40°47′30.30″ N, long. 073°18′13.17″ W)
Madison, CT (MAD) | VOR/DME | (Lat. 41°18′49.90″ N, long. 072°41′31.93″ W)
Hartford, CT (HFD) | VOR/DME | (Lat. 41°38′27.98″ N, long. 072°32′50.70″ W)
GRAYM, MA | FIX | (Lat. 42°06′04.27″ N, long. 072°01′53.49″ W)
GRIPE, MA | FIX | (Lat. 42°08′08.87″ N, long. 071°54′32.47″ W)
Boston, MA (BOS) | VOR/DME | (Lat. 42°21′26.82″ N, long. 070°59′22.37″ W)
* * * * * * *
T-314 Kingston, NY (IGN) to Kennebunk, ME (ENE) [Amended]
Kingston, NY (IGN) | VOR/DME | (Lat. 41°39′55.62″ N, long. 073°49′20.01″ W)
PAWLN, NY | WP | (Lat. 41°46′11.51″ N, long. 073°36′02.64″ W)
SASHA, MA | FIX | (Lat. 42°07′58.70″ N, long. 073°08′55.39″ W)
Barnes, MA (BAF) | VORTAC | (Lat. 42°09′43.05″ N, long. 072°42′58.32″ W)
FAIDS, MA | FIX | (Lat. 42°17′00.75″ N, long. 072°30′33.91″ W)
Gardner, MA (GDM) | VOR/DME | (Lat. 42°32′45.31″ N, long. 072°03′29.48″ W)
MANCH, NH | WP | (Lat. 42°52′12.03″ N, long. 071°22′06.54″ W)
Kennebunk, ME (ENE) | VOR/DME | (Lat. 43°25′32.42″ N, long. 070°36′48.69″ W)
* * * * * * *
T-315 JARLO, WV to Burlington, VT (BTV) [Amended]
JARLO, WV | WP | (Lat. 38°20′58.85″ N, long. 081°46′11.68″ W)
SHANE, WV | WP | (Lat. 37°58′31.15″ N, long. 080°48′24.34″ W)
DBRAH, VA | WP | (Lat. 37°20′34.14″ N, long. 080°04′10.75″ W)
SPNKS, VA | WP | (Lat. 37°17′21.31″ N, long. 079°33′17.14″ W)
KONRD, VA | WP | (Lat. 37°20′39.83″ N, long. 079°01′33.27″ W)
CRUMB, VA | FIX | (Lat. 37°28′09.44″ N, long. 078°08′27.69″ W)
Flat Rock, VA (FAK) | VORTAC | (Lat. 37°31′42.63″ N, long. 077°49′41.59″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
PRNCZ, MD | WP | (Lat. 38°37′38.10″ N, long. 076°05′08.20″ W)
CHOPS, MD | FIX | (Lat. 38°45′41.81″ N, long. 075°57′36.18″ W)
COSHA, DE | WP | (Lat. 38°57′57.57″ N, long. 075°30′51.59″ W)
Atlantic City, NJ (ACY) | VORTAC | (Lat. 39°27′21.15″ N, long. 074°34′34.73″ W)
PANZE, NJ | FIX | (Lat. 39°40′33.58″ N, long. 074°10′05.45″ W)
DIXIE, NJ | FIX | (Lat. 40°05′57.72″ N, long. 074°09′52.17″ W)
Kennedy, NY (JFK) | VOR/DME | (Lat. 40°37′58.40″ N, long. 073°46′17.00″ W)
KEEPM, NY | FIX | (Lat. 40°50′14.77″ N, long. 073°32′42.58″ W)
TRANZ, NY | FIX | (Lat. 40°51′31.95″ N, long. 073°22′30.80″ W)
PUGGS, NY | FIX | (Lat. 40°56′27.65″ N, long. 073°13′47.73″ W)
EEGOR, CT | WP | (Lat. 41°09′38.94″ N, long. 073°07′27.66″ W)
Hartford, CT (HFD) | VOR/DME | (Lat. 41°38′27.98″ N, long. 072°32′50.70″ W)
DVANY, CT | WP | (Lat. 41°51′44.56″ N, long. 072°18′11.25″ W)
Gardner, MA (GDM) | VOR/DME | (Lat. 42°32′45.31″ N, long. 072°03′29.48″ W)
KEYNN, NH | WP | (Lat. 42°47′39.99″ N, long. 072°17′30.35″ W)
EBERT, VT | FIX | (Lat. 43°32′58.08″ N, long. 072°45′42.45″ W)
Burlington, VT (BTV) | VOR/DME | (Lat. 44°23′49.58″ N, long. 073°10′57.48″ W)
* * * * * * *
T-325 RAMRD, KY to Oshkosh, WI (OSH) [Amended]
RAMRD, KY | WP | (Lat. 36°55′44.04″ N, long. 086°26′36.58″ W)
RENRO, KY | WP | (Lat. 37°28′50.53″ N, long. 086°39′19.25″ W)
APALO, IN | FIX | (Lat. 38°00′20.59″ N, long. 086°51′35.27″ W)
JIBKA, IN | WP | (Lat. 39°30′08.93″ N, long. 087°16′26.74″ W)
SMARS, IL | WP | (Lat. 41°07′38.18″ N, long. 088°51′38.22″ W)
TRENM, IL | WP | (Lat. 41°17′24.93″ N, long. 089°00′27.53″ W)
START, IL | WP | (Lat. 41°45′24.83″ N, long. 089°00′21.81″ W)
GRIFT, IL | WP | (Lat. 42°17′28.14″ N, long. 088°53′41.42″ W)
DEBOW, WI | WP | (Lat. 42°44′08.30″ N, long. 088°50′48.92″ W)
LUNGS, WI | WP | (Lat. 43°02′43.66″ N, long. 088°56′54.86″ W)
HOMNY, WI | WP | (Lat. 43°31′02.22″ N, long. 088°39′40.15″ W)
Oshkosh, WI (OSH) | VORTAC | (Lat. 43°59′25.56″ N, long. 088°33′21.36″ W)
* * * * * * *

T-360 SHANE, WV to WAVES, VA [New]
SHANE, WV | WP | (Lat. 37°58′31.15″ N, long. 080°48′24.34″ W)
OBEPE, VA | FIX | (Lat. 37°54′23.03″ N, long. 079°13′21.04″ W)
ROMAN, VA | FIX | (Lat. 37°48′12.67″ N, long. 078°46′03.24″ W)
ARVON, VA | FIX | (Lat. 37°41′13.95″ N, long. 078°21′58.75″ W)
WAVES, VA | WP | (Lat. 37°35′13.54″ N, long. 077°26′52.03″ W)
* * * * * * *

Paragraph 2006 United States Area Navigation Routes.

* * * * *

Q-68 LITTR, AR to OTTTO, VA [Amended]
LITTR, AR | WP | (Lat. 34°40′39.90″ N, long. 092°10′49.26″ W)
RAMRD, KY | WP | (Lat. 36°55′44.04″ N, long. 086°26′36.58″ W)
Charleston, WV (HVQ) | VOR/DME | (Lat. 38°20′58.83″ N, long. 081°46′11.69″ W)
TOMCA, WV | WP | (Lat. 38°34′42.49″ N, long. 080°36′41.09″ W)
RONZZ, WV | WP | (Lat. 38°33′16.08″ N, long. 080°07′56.63″ W)
CAPOE, VA | WP | (Lat. 38°51′13.13″ N, long. 078°22′27.45″ W)
OTTTO, VA | WP | (Lat. 38°51′15.81″ N, long. 078°12′20.01″ W)
* * * * * * *

Issued in Washington, DC, on August 4, 2022.
Scott M. Rosenbloom,
Manager, Airspace Rules and Regulations.

[FR Doc. 2022-17207 Filed 8-12-22; 8:45 am]

BILLING CODE 4910-13-P